FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A copy of the agreement is available through the Commission's Web site (http://www.fmc.gov) or by contacting the Office of Agreements at (202)-523-5793 or tradeanalysis@fmc.gov.

Agreement No.: 011794-013.

Title: COSCON/KL/YMUK/Hanjin Worldwide Slot Allocation & Sailing Agreement.

Parties: COSCO Container Lines Company, Limited; Kawasaki Kisen Kaisha, Ltd.; Yangming (UK) Ltd.; and Hanjin Shipping Co., Ltd.

Filing Party: Amy Cano; Nixon Peabody LLP; 555 West Fifth Street, 46th Floor; Los Angeles, CA 90013.

Synopsis: The amendment changes the number of vessels and increases the TEU capacities for two of the parties.

By Order of the Federal Maritime Commission.
Dated: July 23, 2010.
Karen V. Gregory,
Secretary.

[FR Doc. 2010-18526 Filed 7-27-10; 8:45 am]

BILLING CODE 6730-01-P